FEDERAL EMERGENCY MANAGEMENT AGENCY

Open Meeting of the Federal Interagency Committee on Emergency Medical

Services (FICEMS)

AGENCY: Federal Emergency Management Agency (FEMA).

ACTION: Notice of open meeting.

SUMMARY: FEMA announces the following open meeting.

Name: Federal Interagency Committee on Emergency Medical Services (FICEMS).

Date of Meeting: December 6, 2001.

Place: Building S, National Emergency Training Center (NETC), 16825 South Seton Avenue in Emmitsburg, Maryland 21727. Room assignment will be made available upon in-processing at the Security Office.

Time: 10:30 a.m.

Proposed Agenda: Review and submission for approval of previous FICEMS Committee Meeting Minutes; Ambulance Design Subcommittee report; Technology Subcommittee report; and presentation of member agency reports; reports of other interested parties.

SUPPLEMENTARY INFORMATION: This meeting will be open to the public with limited seating available on a first-come, first-served basis. See the Response and Security Procedures below.

Response Procedures

Committee members and members of the general public who plan to attend the meeting must contact Cindy Wivell, on or before Tuesday, December 4, 2001, at the United States Fire Administration, 16825 South Seton Avenue, Emmitsburg, Maryland 21727, or by telephone at (301) 447-1083, or via e-mail at Cindy.Wivell@fema.gov. This is necessary to be able to create and provide a current roster of visitors to NETC per security directives.

Security Procedures

Increased security controls and surveillance are in effect at the National Emergency Training Center. All visitors must have a valid picture identification card and their vehicles will be subject to search by security personnel. All visitors will be issued a visitor pass which must be worn at all times while on campus. Please allow adequate time before the meeting to complete the security process.

FICEMS Meeting Minutes

Minutes of the meeting will be prepared and will be available upon request 30 days after they have been approved at the next FICEMS Committee Meeting on March 7, 2002. The minutes will also be posted on the United States Fire Administration website at http://www.usfa.fema.gov/ems/ficems.htm within 30 days after their approval at the March 7, 2002, FICEMS Committee Meeting.

Dated: November 2, 2001.
Kenneth O. Burris, Jr.,
Acting U.S. Fire Administrator, United States Fire Administration.

[FR Doc. 01-28396 Filed 11-9-01; 8:45 am]

BILLING CODE 6718-08-P